DEPARTMENT OF THE INTERIOR

National Park Service

[NPS-WASO-NAGPRA-NPS0040369; PPWOCRADN0-PCU00RP14.R50000]

Notice of Intended Repatriation: North Carolina State University, Gregg Museum of Art & Design, Raleigh, NC

AGENCY: National Park Service, Interior.

ACTION: Notice.

SUMMARY: In accordance with the Native American Graves Protection and Repatriation Act (NAGPRA), the North Carolina State University, Gregg Museum of Art & Design (Gregg Museum) intends to repatriate certain cultural items that meet the definition of sacred objects or objects of cultural patrimony and that have a cultural affiliation with the Indian Tribes or Native Hawaiian organizations in this notice.

DATES: Repatriation of the cultural items in this notice may occur on or after July 16, 2025.

ADDRESSES: Send additional, written requests for repatriation of the cultural items in this notice to Mary Hauser, North Carolina State University, Gregg Museum of Art & Design, 1903 Hillsborough St. Campus Box 7330, Raleigh, NC 27695, email mehauser@ncsu.edu.

SUPPLEMENTARY INFORMATION: This notice is published as part of the National Park Service's administrative responsibilities under NAGPRA. The determinations in this notice are the sole responsibility of the Gregg Museum, and additional information on the determinations in this notice, including the results of consultation, can be found in the summary or related records. The National Park Service is not responsible for the determinations in this notice.

Abstract of Information Available

A total of two cultural items have been requested for repatriation. The one sacred object is a men's shirt. The shirt has leather fringe along sides and underside of arms. There are bands of beading along the outside of arms and at each side of the front and back torso. Additional sections of beadwork are at the upper center front and back. There is blue paint on the sleeves and on the front and back torso. This item came to the Gregg Museum as a part of an estate transfer from Chinqua-Penn, an estate in Reidsville, Rockingham County, NC. The owners of this estate traveled extensively, collecting artifacts from around the world. After their deaths the estate was managed first by the University of North Carolina-Greensboro, and then by North Carolina State University in the mid-1980s. After Chinqua-Penn's sale to Calvin Phelps in 2006, artifacts that became on loan to the Gallery of Art & Design (now Gregg Museum) since 2003 were legally transferred to the collection of the Gregg Museum. Gregg Museum records indicate no known hazardous substances.

The one object of cultural patrimony is a smudge fan, c.1900. According to information from the collector Emma Hanford Smith as shared by the donor of the collection, this smudge fan was collected by Dr. E.R. Hodge, Apache Indian, 1912. It has a leather beaded handle with a cross decoration and eagle feather leaf. Upon consultation with tribal authorities, it was identified as most likely from a Northern Plains Indian Tribe, like Oceti Sakowin (Sioux) or Tsisista and Hinono'ei (Cheyenne-Arapaho) or maybe Apsaalooke (Crow), Indigenous American. Gregg Museum records indicate no known hazardous substances.

Determinations

The Gregg Museum has determined that:

• The one sacred object described in this notice is a specific ceremonial object needed by a traditional Native American religious leader for present-day adherents to practice traditional Native American religion, according to the Native American traditional knowledge of a lineal descendant, Indian Tribe, or Native Hawaiian organization.

• The one object of cultural patrimony described in this notice has ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Assiniboine and Sioux Tribes of the Fort Peck Indian Reservation, Montana.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 16, 2025. If competing requests for repatriation are received, the Gregg Museum must determine the most appropriate requestor prior to repatriation. Requests for joint repatriation of the cultural items are considered a single request and not competing requests. The Gregg Museum is responsible for sending a copy of this notice to the Indian Tribes and Native Hawaiian organizations identified in this notice and to any other consulting parties.

Authority: Native American Graves Protection and Repatriation Act, 25 U.S.C. 3004 and the implementing regulations, 43 CFR 10.9.

Dated: June 6, 2025.
Melanie O'Brien,
Manager, National NAGPRA Program.

[FR Doc. 2025-11007 Filed 6-13-25; 8:45 am]

BILLING CODE 4312-52-P